DEPARTMENT OF ENERGY

Federal Energy Regulatory Commission

[Docket No. CP18-524-000]

Notice of Schedule for Environmental Review of the D'Lo Gas Storage, LLC, D'lo Natural Gas Storage Project Amendment

On July 13, 2018, D'Lo Gas Storage, LLC (DGS) filed an application in Docket No. CP18-524-000 requesting a Certificate of Public Convenience and Necessity pursuant to section 7(c) of the Natural Gas Act to construct and operate certain natural gas storage facilities. The proposed project is known as the D'Lo Natural Gas Storage Project Amendment (Project), and would allow DGS to modify its previously certificated project design for the D'Lo Gas Storage Project in Docket No. CP12-39-000 in Simpson and Rankin Counties, Mississippi.

On July 26, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—December 21, 2018

90-day Federal Authorization Decision Deadline—March 21, 2019

If a schedule change becomes necessary, additional notice will be provided so that the relevant agencies are kept informed of the Project's progress.

Project Description

DGS is proposing the following amendments to the originally certificated project design:

• Elimination of the Gulf South Interconnect Lateral and Gulf South Meter Station facilities; and

• Relocation of Primary Source Water Wells #2 and #4 and Primary Brine Disposal Wells #2 and #4 approximately 0.4 mile south of their originally proposed locations.

Background

On August 27, 2018, the Commission issued a Notice of Intent to Prepare an Environmental Assessment for the Proposed D'Lo Natural Gas Storage Project Amendment and Request for Comments on Environmental Issues (NOI). The NOI was sent to affected landowners; federal, state, and local government agencies; elected officials; environmental and public interest groups; Native American tribes; other interested parties; and local libraries and newspapers. In response to the NOI, the Commission received one comment from the Mississippi Department of Wildlife, Fisheries, and Parks. The primary issues raised by the commentor are impacts on state or federally listed species and species of special concern that may occur in the Project area. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-524), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 27, 2018.
Kimberly D. Bose,
Secretary.

[FR Doc. 2018-26205 Filed 11-30-18; 8:45 am]

BILLING CODE 6717-01-P